DEPARTMENT OF COMMERCE

Foreign-Trade Zones Board

[Docket 20-2009 and 22-2009]

Foreign-Trade Zones 29 and 203

Applications for Subzone Authority

Dow Corning Corporation and REC Silicon

Extension of Comment Period

The comment period for the applications for subzone status at the Dow Corning Corporation (Dow Corning) facilities in Carrollton, Elizabethtown and Shepherdsville, Kentucky (74 FR 21621-21622, 5/8/09) and at the REC Silicon facility in Moses Lake, Washington (74 FR 25488-25489, 5/28/09) is being extended to October 21, 2009 to allow interested parties additional time in which to comment. Rebuttal comments may be submitted during the subsequent 15-day period, until November 5, 2009. Submissions (original and one electronic copy) shall be addressed to the Board's Executive Secretary at: Foreign-Trade Zones Board, U.S. Department of Commerce, Room 2111, 1401 Constitution Ave. NW, Washington, DC 20230.

For further information, contact Elizabeth Whiteman at Elizabeth_Whiteman@ita.doc.gov or (202) 482-0473.

Dated: September 28, 2009.
Andrew McGilvray,
Executive Secretary.

[FR Doc. E9-23941 Filed 10-2-09; 8:45 am]

BILLING CODE 3510-DS-S